DEPARTMENT OF TRANSPORTATION

Federal Railroad Administration

[Docket No. FRA-2021-0006-N-1]

Proposed Agency Information Collection Activities; Comment Request

AGENCY: Federal Railroad Administration (FRA), U.S. Department of Transportation (DOT).

ACTION: Notice of information collection; request for comment.

SUMMARY: Under the Paperwork Reduction Act of 1995 (PRA) and its implementing regulations, FRA seeks approval of the Information Collection Request (ICR) abstracted below. Before submitting this ICR to the Office of Management and Budget (OMB) for approval, FRA is soliciting public comment on specific aspects of the activities identified in the ICR.

DATES: Interested persons are invited to submit comments on or before April 19, 2021.

ADDRESSES: Submit comments and recommendations for the proposed ICR to Ms. Hodan Wells, Information Collection Clearance Officer at email: hodan.wells@dot.gov or telephone: (202) 493-0440, and Mr. John Purnell, Information Collection Clearance Officer at email: john.purnell@dot.gov or telephone: (202) 493-0500. Please refer to the assigned OMB control number in any correspondence submitted. FRA will summarize comments received in response to this notice in a subsequent notice and include them in its information collection submission to OMB for approval.

SUPPLEMENTARY INFORMATION: The PRA, 44 U.S.C. 3501-3520, and its implementing regulations, 5 CFR part 1320, require Federal agencies to provide 60-days' notice to the public to allow comment on information collection activities before seeking OMB approval of the activities. See 44 U.S.C. 3506, 3507; 5 CFR 1320.8 through 1320.12. Specifically, FRA invites interested parties to comment on the following ICR regarding: (1) Whether the information collection activities are necessary for FRA to properly execute its functions, including whether the activities will have practical utility; (2) the accuracy of FRA's estimates of the burden of the information collection activities, including the validity of the methodology and assumptions used to determine the estimates; (3) ways for FRA to enhance the quality, utility, and clarity of the information being collected; and (4) ways for FRA to minimize the burden of information collection activities on the public, including the use of automated collection techniques or other forms of information technology. See 44 U.S.C. 3506(c)(2)(A); 5 CFR 1320.8(d)(1).

FRA believes that soliciting public comment may reduce the administrative and paperwork burdens associated with the collection of information that Federal regulations mandate. In summary, FRA reasons that comments received will advance three objectives: (1) Reduce reporting burdens; (2) organize information collection requirements in a “user-friendly” format to improve the use of such information; and (3) accurately assess the resources expended to retrieve and produce information requested. See 44 U.S.C. 3501.

The summary below describes the ICR that FRA will submit for OMB clearance as the PRA requires:

Title: Accident/Incident Reporting and Recordkeeping.

OMB Control Number: 2130-0500.

Abstract: The railroad accident/incident reporting regulations in 49 CFR part 225 require railroads to submit monthly reports summarizing collisions, derailments, and certain other accidents/incidents involving damages above a periodically revised dollar threshold, as well as certain injuries to passengers, employees, and other persons on railroad property. As the reporting requirements and the information needed regarding each category of accident/incident are unique, a different form is used for each category.

Type of Request: Extension without change (with changes in estimates) of a currently approved collection.

Affected Public: Businesses.

Form(s): FRA F 6180.54; .55; .55a; .56; .57; .78; .81; .97; .98; .107; .150.

Respondent Universe: 765 railroads.

Frequency of Submission: On occasion.

Reporting Burden:

CFR section/subject ¹ | Respondent universe | Total annual responses | Average time per response | Total annual burden hours | Total annual dollar cost equivalent ²
225.6(a)—Consolidated reporting—Request to FRA by parent corporation to treat its commonly controlled carriers as a single railroad carrier for purposes of this part | 765 railroads | 0.33 request | 40 hours | 13.20 | $1,022.60
225.9—Telephonic reports of certain accidents/incidents and other events | 765 railroads | 3,123 phone reports | 15 minutes | 780.75 | 60,484.70
225.11—Reporting of accidents/incidents—Form FRA F 6180.54 | 765 railroads | 1,970 forms | 2 hours | 3,940.00 | 305,231.80
225.12(a)—Rail equipment accident/incident reports alleging human factor as cause—Form FRA F 6180.81 | 765 railroads | 772 forms | 15 minutes | 193.00 | 14,951.71
—(b) Part I Form FRA F 6180.78 (Notices and copies) | 765 railroads | 800 notices + 800 notice copies + 3,200 copies + 10 copies | 10 minutes (per notice) + 3 minutes (per copy) | 333.83 | 25,861.81
—(c) Joint operations | 765 railroads | 77 reports | 20 minutes | 25.67 | 1,988.65
—(d) Late identification | 765 railroads | 20 attachments + 20 notices | 10 minutes | 6.67 | 516.72
—(g) Employee statement supplementing railroad accident report (Part II Form FRA 6180.78) | Railroad employees | 60 statements | 1.5 hours | 90.00 | 5,331.60
—(g)(3) Employee confidential letter | Railroad employees | 5 letters | 2 hours | 10.00 | 592.40
225.13(A)—Late reports—RR discovery of improperly omitted report of accident/incident | 765 railroads | 25 late reports | 2 hours | 50.00 | 3,873.50
—(B) RR late/amended report of accident/incident based on employee statement supplementing RR accident report | 765 railroads | 20 amended reports + 30 copies | 1 hour (per amended report) + 3 minutes (per copy) | 21.50 | 1,665.61
225.18(a)—RR narrative report of possible alcohol/drug involvement in accident/incident | 765 railroads | 12 reports | 15 minutes | 3.00 | 232.41
—(b) Reports required by section 219.209(b) appended to rail equipment accident/incident report | 765 railroads | 5 reports | 30 minutes | 2.50 | 193.68
225.19(a)—Rail-highway grade crossing accident/incident report—Form FRA F 6180.57 | 765 railroads | 2,231 forms | 2 hours | 4,462.00 | 345,671.14
—(d) Death, injury, or occupational illness (Form FRA F 6180.55a) | 765 railroads | 8,966 death, injury, or occ. illness forms + 1,044 trespasser forms + 291 suicide forms | 1 hour (death, injury, or occ. illness forms) + 2 hours (trespasser forms) + 2 hours (suicide forms) | 11,636.00 | 901,440.92
225.21—Railroad injury and illness summary—Form FRA F 6180.55 | 765 railroads | 9,180 forms | 10 minutes | 1,530.00 | 118,529.10
225.21—Annual railroad report of employee hours and casualties, by state—Form FRA F 6180.56 | 765 railroads | 765 forms | 15 minutes | 191.25 | 14,816.14
225.21/25—Railroad employee injury and/or illness record—Form FRA F 6180.98 | 765 railroads | 4,000 forms | 1 hour | 4,000.00 | 309,880.00
—Copies of forms to employees | 765 railroads | 120 form copies | 2 minutes | 4.00 | 309.88
225.21—Initial rail equipment accident/incident record—Form FRA F 6180.97 | 765 railroads | 10,518 forms | 30 minutes | 5,259 | 407,414.73
—Alternative record for illnesses claimed to be work related—Form FRA F 6180.107 | 765 railroads | 150 forms | 75 minutes | 187.50 | 14,525.63
—Highway user statement—RR cover letter and Form FRA F 6180.150 sent out to potentially injured travelers involved in a highway-rail grade crossing accident/incident | 765 railroads | 836 letters/forms | 50 minutes | 696.67 | 53,971.02
—Form FRA F 6180.150 completed by highway user and sent back to railroad | 1,035 injured individuals | 585 forms | 45 minutes | 438.75 | 33,989.96
225.25(h)—Posting of monthly summary | 765 railroads | 9,180 lists | 5 minutes | 765.00 | 59,264.55
225.27(a)(1)—Retention of records | 765 railroads | 4,000 records | 2 minutes | 133.33 | 10,329.08
—Record of Form FRA F 6180.107s | 765 railroads | 100 records | 2 minutes | 3.33 | 257.98
—Record of monthly lists | 765 railroads | 9,180 records | 2 minutes | 306.00 | 23,705.82
(a)(2)—Record of Form FRA F 6180.97 | 765 railroads | 10,518 records | 2 minutes | 350.60 | 27,160.98
—Record of employee human factor attachments | 765 railroads | 1,632 records | 2 minutes | 54.40 | 4,214.37
225.33—Internal control plans—Amendments | 765 railroads | 10 amendments | 6 hours | 60.00 | 4,648.20
225.35—Access to records and reports | 765 railroads | 200 lists | 20 minutes | 66.67 | 5,164.92
225.37(a)—Optical media transfer of reports, updates, and amendments | 1 railroad | 12 transfers | 3 minutes | 0.60 | 46.48
(c)(2)—Electronic submission of reports, updates, and amendments | 765 railroads | 4,590 submissions | 3 minutes | 229.50 | 17,779.37
Totals | 765 railroads | 89,057 responses | N/A | 35,845 | 2,775,067
¹ The current inventory exhibits a total burden of 46,577 hours while the total burden of this notice is 35,844 hours. Totals may not add due to rounding.
² The dollar equivalent cost is derived from the Surface Transportation Board's 2019 Full Year Wage A&B data series using the appropriate employee group hourly wage rate that includes a 75-percent overhead charge.

Total Estimated Annual Responses: 89,057.

Total Estimated Annual Burden: 35,845 hours.

Total Estimated Annual Burden Hour Dollar Cost Equivalent: $2,775,067.

Under 44 U.S.C. 3507(a) and 5 CFR 1320.5(b) and 1320.8(b)(3)(vi), FRA informs all interested parties that a respondent is not required to respond to, conduct, or sponsor a collection of information that does not display a currently valid OMB control number.

Authority: 44 U.S.C. 3501-3520.

Brett A. Jortland,
Acting Chief Counsel.

[FR Doc. 2021-03207 Filed 2-17-21; 8:45 am]

BILLING CODE 4910-06-P